SMALL BUSINESS ADMINISTRATION

[Declaration of Disaster #3510]

Commonwealth of Virginia

Southampton County and the contiguous counties of Greensville, Isle of Wight, Surry, Sussex, and the Independent Cities of Franklin and Suffolk in the Commonwealth of Virginia; and Gates, Hertford, and Northampton Counties in the State of North Carolina constitute a disaster area due to damages caused by severe storms, hail, and tornadoes that occurred on May 9, 2003. Applications for loans for physical damage may be filed until the close of business on August 11, 2003 and for economic injury until the close of business on March 11, 2004 at the address listed below or other locally announced locations: U.S. Small Business Administration, Disaster Area 1 Office, 360 Rainbow Blvd., South 3rd Floor, Niagara Falls, NY 14303.

The interest rates are:

| Percent
For Physical Damage:
Homeowners with credit available elsewhere | 5.625
Homeowners without credit available elsewhere | 2.812
Businesses with credit available elsewhere | 5.906
Businesses and non-profit organizations without credit available elsewhere | 2.953
Others (including non-profit organizations) with credit available elsewhere | 5.500
For Economic Injury:
Businesses and small agricultural cooperatives without credit available elsewhere | 2.953

The numbers assigned to this disaster for physical damage are 351012 for Virginia and 351112 for North Carolina. The numbers assigned to this disaster for economic damage are 9V8100 for Virginia and 9V8200 for North Carolina.

(Catalog of Federal Domestic Assistance Program Nos. 59002 and 59008.)
Dated: June 11, 2003.
Hector V. Barreto,
Administrator.

[FR Doc. 03-15358 Filed 6-17-03; 8:45 am]

BILLING CODE 8025-01-P